DEPARTMENT OF JUSTICE

Notice of Lodging of Consent Decree Under the Comprehensive Environmental Response, Compensation, and Liability Act

Notice is hereby given that on May 16, 2008, an electronic version of a proposed consent decree was lodged in the United States District Court for the Central District of California in United States v. Riverton Properties, Inc., et al., No. CV 08-03196 ABC (MANx). The consent decree settles the United States' claims against Riverton Properties, Inc. (“Riverton”) and the Joan W. Gregg Revocable Trust (the “Trust”) under Section 107 of the Comprehensive Environmental Response, Compensation, and Liability Act of 1980 (“CERCLA”), as amended, 42 U.S.C. 9607, in connection with the Preservation Aviation, Inc. site located at 10800 Burbank Boulevard and 5543 Riverton Avenue, North Hollywood, California. The consent decree also resolves potential CERCLA counterclaims against the United States Defense Logistics Agency (“DLA”).

Under the terms of the proposed consent decree, DLA will pay $2 million to compensate EPA's response costs, and Riverton and the Trust jointly will pay $1,868,000. EPA's total response costs are $6.5 million.

The Department of Justice will receive for a period of thirty (30) days from the date of this publication comments relating to the consent decree. Comments should be addressed to the Assistant Attorney General, Environment and Natural Resources Division, and either e-mailed to pubcomment-ees.enrd@usdoj.gov or mailed to P.O. Box 7611, U.S. Department of Justice, Washington, DC 20044-7611, and should refer to United States v. Riverton Properties, Inc., et al., No. CV 08-03196 ABC (MANx) and DOJ #90-11-2-08809.

The consent decree may be examined at the Office of the United States Attorney for the Central District of California, 300 North Los Angeles Street, Room 7516, Los Angeles, California 90012. During the public comment period, the consent decree may also be examined on the following Department of Justice Web site: http://www.usdoj.gov/enrd/Consent_Decrees.html. A copy of the consent decree may also be obtained by mail from the Consent Decree Library, P.O. Box 7611, U.S. Department of Justice, Washington, DC 20044-7611, or by faxing or e-mailing a request to Tonia Fleetwood, tonia.fleetwood@usdoj.gov, Fax No. (202) 514-0097, phone confirmation number (202) 514-1547. In requesting a copy from the Consent Decree Library, please enclose a check in the amount of $9.00 (25 cents per page reproduction cost) payable to the U.S. Treasury.

Henry Friedman,
Assistant Chief, Environmental Enforcement Section, Environment and Natural Resources Division.

[FR Doc. E8-11575 Filed 5-22-08; 8:45 am]

BILLING CODE 4410-15-P